DEPARTMENT OF THE INTERIOR

Fish and Wildlife Service

50 CFR Part 17

[Docket No. FWS-R2-ES-2008-0130; MO 92210-0-0008-B2]

Endangered and Threatened Wildlife and Plants; Partial 90-Day Finding on a Petition to List 475 Species in the Southwestern United States as Threatened or Endangered With Critical Habitat; Correction

AGENCY: Fish and Wildlife Service, Interior.

ACTION: Notice of 90-day petition finding; correction.

SUMMARY: On Wednesday, December 16, 2009, we, the U.S. Fish and Wildlife Service, announced a 90-day finding on 192 species from a petition to list 475 species in the Southwest region of the United States as threatened or endangered under the Endangered Species Act of 1973, as amended (Act). In that notice, we used an incorrect docket number in one place and asked commenters submitting hardcopy comments to refer to this docket number in their comments. The correct docket number is [FWS-R2-ES-2008-0130]. However, comments we received under the incorrect docket number will be routed to the correct docket. If you already submitted a comment, even with the incorrect docket number, you need not resubmit it.

DATES: To allow us adequate time to conduct a status review, we request that we receive information on or before February 16, 2010.

ADDRESSES: You may submit information by one of the following methods:

• Federal rulemaking Portal: http://www.regulations.gov. Follow the instructions for submitting comments to Docket no. FWS-R2-ES-2008-0130.

• U.S. Mail or hand delivery: Public Comments Processing, Attn: FWS-R2-ES-2008-0130, Division of Policy and Directives Management, U.S. Fish and Wildlife Service, 4401 N. Fairfax Drive, Suite 222, Arlington, VA 22203. We will post all information received on http://www.regulations.gov. This generally means that we will post any personal information you provide us (see the Request for Information section in our original notice—74 FR 66865—for more information).

FOR FURTHER INFORMATION CONTACT: Sarah Quamme, Listing Coordinator, Southwest Regional Ecological Services Office, 500 Gold Avenue, SW., Albuquerque, NM 87102; telephone 505-248-6920. If you use a telecommunications device for the deaf (TDD), please call the Federal Information Relay Service (FIRS) at 800-877-8339.

SUPPLEMENTARY INFORMATION: On Wednesday, December 16, 2009, we announced a 90-day finding on 192 species from a petition we received to list 475 species in the Southwest region of the United States as threatened or endangered under the Act (16 U.S.C. 1531 et seq.) (74 FR 66865). We found that the petition presented substantial information indicating that 67 of the 192 species may warrant listing as threatened or endangered. When we make a finding that a petition presents substantial information indicating that listing a species may be warranted, we are required to promptly review the status of the species (status review). For the status review to be complete and based on the best available scientific and commercial information, we requested information on each of the 67 species from governmental agencies, Native American Tribes, the scientific community, industry, and any other interested parties.

In that notice, we asked commenters to refer to an incorrect docket number when submitting comments via U.S. mail or hand delivery. The correct docket number is [FWS-R2-ES-2008-0130], and our instructions to persons submitting comments electronically included the correct docket number. All hardcopy comments received under the incorrect docket number will be routed to the correct docket. If you already submitted a comment, even with the incorrect docket number, you need not resubmit it. For more information about the species, background, and our finding, see our original notice at 74 FR 66865.

Sara Prigan,
Federal Register Liaison.

[FR Doc. 2010-454 Filed 1-12-10; 8:45 am]

BILLING CODE 4310-55-P